DEPARTMENT OF THE INTERIOR

National Park Service

[NPS-WASO-NAGPRA-16151: PPWOCRADN0-PCU00RP14.R50000]

Notice of Intent To Repatriate Cultural Items: Cowlitz County Historical Museum, Kelso, WA

AGENCY: National Park Service, Interior.

ACTION: Notice.

SUMMARY: The Cowlitz County Historical Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Cowlitz County Historical Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Cowlitz County Historical Museum at the address in this notice by August 27, 2014.

ADDRESSES: Bill Watson, Collections Curator, Cowlitz County Historical Museum, 405 Allen Street, Kelso, WA 98626, telephone (360) 577-3119, email watsonb@co.cowlitz.wa.us.

SUPPLEMENTARY INFORMATION: Notice is here given in accordance with the Native American Graves Protection and Repatriation Act (NAGPRA), 25 U.S.C. 3005, of the intent to repatriate cultural items under the control of the Cowlitz County Historical Museum, Kelso, WA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In or around the first decade of the 20th century, 60 cultural items were removed from the Columbia River in the vicinity of the town of Chelan, in Chelan County, WA. The catalog form for these items includes the notation, “Mr. Urban Fisher found these in an Indian Grave in the Upper Columbia River.” Urban Fisher is found in the 1900 and 1910 Federal Censuses in the town of Chelan, in Chelan County, WA, ages 6 and 16, respectively. In the 1920 Federal Census, Urban Fisher is found in Kelso, in Cowlitz County, WA. At some point between when Mr. Fisher moved to Kelso and 1960, he gave or sold these items to Sanford Lord, a Kelso collector of Native objects. City Directories in our collection indicate Mr. Fisher and Mr. Lord worked together in the Kelso Post Office for over 30 years. On January 4, 1960, Sanford Lord donated the bulk of his collection of Native objects to the Cowlitz County Historical Museum. The 60 unassociated funerary objects consist of short necklace fragments: One containing 7 copper beads and 13 shell beads, one containing 5 copper bead fragments and 3 shell beads, and one containing 3 copper beads and 4 shell beads; and 25 loose copper beads of various sizes.

These items were taken from the Columbia River in the vicinity of Chelan, WA, which falls within the traditional lands of the Confederated Tribes of the Colville Reservation. The determination of the cultural affiliation of the unassociated funerary objects is based upon geographical, archeological, oral tradition, and historical evidences. The unassociated funerary objects described above are consistent with cultural items typically found in context with Native American burials in eastern Washington State and the upper Columbia River. Extensive museum documentation, the general geographic locations of the site, burial patterns, and consultation with the Confederated Tribes of the Colville Reservation verify that the cultural items were removed from the area that is within the aboriginal territory of the Chelan Indians, a constituent tribe of the Confederated Tribes of the Colville Reservation.

Determinations Made by the Cowlitz County Historical Museum

Officials of the Cowlitz County Historical Museum have determined that:

• Pursuant to 25 U.S.C. 3001(3)(B), the 60 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Colville Reservation.

Additional Requestors and Disposition

Lineal descendants or representatives of any Indian tribe or Native Hawaiian organization not identified in this notice that wish to claim these cultural items should submit a written request with information in support of the claim to Bill Watson, Collections Curator, Cowlitz County Historical Museum, 405 Allen Street, Kelso, WA 98626, telephone (360) 577-3119, email watsonb@co.cowlitz.wa.us, by August 27, 2014. After that date, if no additional claimants have come forward, transfer of control of the unassociated funerary objects described in this notice to the Confederated Tribes of the Colville Reservation may proceed.

The Cowlitz County Historical Museum is responsible for notifying the Confederated Tribes of the Colville Reservation that this notice has been published.

Dated: July 2, 2014.
David Tarler,
Acting Manager, National NAGPRA Program.

[FR Doc. 2014-17734 Filed 7-25-14; 8:45 am]

BILLING CODE 4312-50-P